DEPARTMENT OF ENERGY

Federal Energy Regulatory Commission

Combined Notice of Filings #1

April 30, 2008.

Take notice that the Commission received the following electric corporate filings:

Docket Numbers: EC08-81-000.

Applicants: PPM Wind Energy LLC; Dillon Wind LLC; Providence Heights Wind, LLC; Winnebago Windpower LLC; IBERDROLA RENEWABLES, Inc.; Aeolus Wind Power V LLC; Iberdrola Renewable Energies USA, Ltd.; GE Energy Financial Services, Inc.; Wachovia Investment Holdings, LLC.

Description: Joint Application for Section 203 Authorization for Disposition of Jurisdictional Facilities and Request for Confidential Treatment, Waiver of Filing Requirements and 21-Day Comment Period of Iberdrola Renewable Energies USA, Ltd., et. al.

Filed Date: 04/29/2008.

Accession Number: 20080429-5191

Comment Date: 5 p.m. Eastern Time on Tuesday, May 20, 2008.

Take notice that the Commission received the following exempt wholesale generator filings:

Docket Numbers: EG08-69-000.

Applicants: Silver Star I Power Partners, LLC.

Description: Notice of Self-Certification of Silver Star I Power Partners, LLC as an Exempt Wholesale Generator.

Filed Date: 04/29/2008.

Accession Number: 20080429-5139.

Comment Date: 5 p.m. Eastern Time on Tuesday, May 20, 2008.

Take notice that the Commission received the following electric rate filings:

Docket Numbers: ER05-1511-002.

Applicants: Noble Thumb Windpark I, LLC.

Description: Noble Thumb Windpark I, LLC submits a Substitute First Revised Sheet 1 in both clean and redline formats in compliance with Order 697.

Filed Date: 04/28/2008.

Accession Number: 20080429-0208.

Comment Date: 5 p.m. Eastern Time on Friday, May 9, 2008.

Docket Numbers: ER07-1372-007.

Applicants: Midwest Independent Transmission System Operator, Inc.

Description: Midwest Independent Transmission System Operator, Inc. submits proposed clarifications and revisions to the Midwest ISO's Open Access Transmission, Energy and Operating Reserve Markets Tariff to comply with the 60-day compliance etc.

Filed Date: 04/25/2008.

Accession Number: 20080429-0105.

Comment Date: 5 p.m. Eastern Time on Friday, May 16, 2008.

Docket Numbers: ER08-680-000.

Applicants: Arizona Public Service Company.

Description: Withdrawal of proposed changes to its FERC Electric Tariff, Volume 5 of Arizona Public Service Company.

Filed Date: 04/16/2008.

Accession Number: 20080417-5034.

Comment Date: 5 p.m. Eastern Time on Wednesday, May 7, 2008.

Docket Numbers: ER08-687-000.

Applicants: Stockton CoGen Company.

Description: Motion of Stockton CoGen Company to withdraw application for blanket authorizations, certain waivers and order approving market-based rate tariff.

Filed Date: 04/22/2008.

Accession Number: 20080424-0206.

Comment Date: 5 p.m. Eastern Time on Tuesday, May 13, 2008.

Docket Numbers: ER08-873-000.

Applicants: PJM Interconnection, L.L.C.

Description: PJM Interconnection, LLC submits three executed interconnection service agreements with Indiana Michigan Power Co et. al.

Filed Date: 04/25/2008.

Accession Number: 20080429-0001.

Comment Date: 5 p.m. Eastern Time on Friday, May 16, 2008.

Docket Numbers: ER08-875-000.

Applicants: Virginia Electric and Power Company.

Description: Virginia Electric and Power Company et. al submits a revised Generator Interconnection and Operating Agreement with Southernwestern Public Service Authority of Virginia.

Filed Date: 04/25/2008.

Accession Number: 20080429-0107.

Comment Date: 5 p.m. Eastern Time on Friday, May 16, 2008.

Take notice that the Commission received the following electric securities filings:

Docket Numbers: ES08-48-000.

Applicants: PHI Service Company.

Description: PHI Service Company Form 523 Joint Application Under Section 204 of the Federal Power Act for Authorization to Issue Securities.

Filed Date: 04/29/2008.

Accession Number: 20080429-5130.

Comment Date: 5 p.m. Eastern Time on Tuesday, May 20, 2008.

Take notice that the Commission received the following open access transmission tariff filings:

Docket Numbers: OA07-82-001.

Applicants: Duke Energy Carolinas, LLC.

Description: Duke Energy Carolinas, LLC submits Substitute Original Sheet 184 et al., to FERC Electric Tariff, Sixth Revised Volume 1 in compliance with the Commission's 3/27/08 Order.

Filed Date: 04/25/2008.

Accession Number: 20080429-0101.

Comment Date: 5 p.m. Eastern Time on Friday, May 16, 2008.

Docket Numbers: OA07-87-001.

Applicants: Tampa Electric Company.

Description: Tampa Electric Company submits Substitute First Revised Sheet 94 et al., in its open access transmission tariff.

Filed Date: 04/25/2008.

Accession Number: 20080429-0104.

Comment Date: 5 p.m. Eastern Time on Friday, May 16, 2008.

Docket Numbers: OA07-92-001.

Applicants: Southern Company Services, Inc.

Description: Order No. 890 OATT Attachment C compliance Filing of Southern Company Services, Inc.

Filed Date: 04/29/2008.

Accession Number: 20080429-5068.

Comment Date: 5 p.m. Eastern Time on Tuesday, May 20, 2008.

Docket Numbers: OA07-93-001.

Applicants: E.ON U.S. LLC.

Description: EON U.S. LLC et al., submits revised Open Access Transmission Tariff sheets for Attachment C, incorporating the changes required by the Commission in the Letter Order.

Filed Date: 04/25/2008.

Accession Number: 20080429-0103.

Comment Date: 5 p.m. Eastern Time on Friday, May 16, 2008.

Docket Numbers: OA07-110-001.

Applicants: NorthWestern Corporation (South Dakota).

Description: Northwestern Corporation submits Revised Attachments C and K to their South Dakota Open Access Transmission Tariff, FERC Electric Tariff, Second Revised Volume 2.

Filed Date: 04/10/2008.

Accession Number: 20080416-0054.

Comment Date: 5 p.m. Eastern Time on Thursday, May 1, 2008.

Any person desiring to intervene or to protest in any of the above proceedings must file in accordance with Rules 211 and 214 of the Commission's Rules of Practice and Procedure (18 CFR 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Kimberly D. Bose,
Secretary.

[FR Doc. E8-10606 Filed 5-12-08; 8:45 am]

BILLING CODE 6717-01-P